FEDERAL COMMUNICATIONS COMMISSION

Notice of Public Information Collection(s) Being Submitted for Review to the Office of Management and Budget

April 13, 2005.

Summary: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

Dates: Written Paperwork Reduction Act (PRA) comments should be submitted on or before May 23, 2005. If you anticipate that you will be submitting PRA comments, but find it difficult to do so within the period of time allowed by this notice, you should advise the contact listed below as soon as possible.

Addresses: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA web page at: http://www.fcc.gov/omd/pra.

For Further Information Contact: For additional information or copies of the information collection(s), contact Judith B. Herman at 202-418-0214 or via the Internet at Judith-B.Herman@fcc.gov.

Supplementary Information:

OMB Control No.: 3060-1061.

Title: Earth Stations on Board Vessels (ESVs).

Form No.: N/A.

Type of Review: Revision of a currently approved collection.

Respondents: Business or other for-profit.

Number of Respondents: 15.

Estimated Time Per Response: 2 hours.

Frequency of Response: Recordkeeping requirement, third party disclosure requirement, and on occasion and one-time reporting requirements.

Total Annual Burden: 113 hours.

Total Annual Cost: $15,000.

Privacy Act Impact Assessment: No.

Needs and Uses: The Commission adopted and released a Report and Order, IB Docket No. 02-10, FCC 04-286, which revised this information to include the following reporting and recordkeeping requirements: (1) C-Band and Ku-Band operators (“ESV operators”) must collect and maintain vessel tracking data for one year to assist the Commission and affected operators in identifying and resolving sources of interference; (2) as a condition of licensing, applicants proposing ESV operations in the 14.0 through 14.5 GHz band and planning to travel within 100km of these sites, must coordinate through the National Telecommunications and Information Administration (NTIA) Interdepartment Radio Advisory Committee's (IRAC) and, if necessary, the appropriate government agency to resolve any potential concerns; and (3) ESV operators must have a contact that is available in the United States 24 hours a day, seven days a week, to respond to Fixed Satellite (FS) operators' requests. The name, telephone number and other pertinent information of the contact will be posted on the Commission's Web site, http://www.fcc.gov. As a result of this rulemaking, the Commission's International Bureau will revise its earth station license application procedures and related forms to conform to the rules adopted. Specifically, the information requested on FCC Form 312 will need to be modified. There are, moreover, additional and ongoing rulemakings that may also require modification to FCC Form 312. Because the Commission intends to modify FCC Form 312 only after all the applicable rulemakings have been completed, there will be a period of time after the effective date of this Report and Order during which FCC Form 312 will not be altered to accommodate ESV applications. In the interim, ESV applicants should utilize FCC Form 312 and submit attachments providing the relevant information and certifications reflected in the rules we adopted. (Note: FCC Form 312 is approved by the Office of Management and Budget under OMB Control Number 3060-0678).

Finally, during the Notice of Proposed Rulemaking (NPRM) stage of the rulemaking, the Commission proposed some revisions to FCC rules that were not adopted in the final Report and Order. As a result, the OMB submission reflects a program change of −802 burden hours and −$12,000 in annual costs.

The purposes of this information collection are as follows: (1) Establish licensing and service rules for ESVs in the Ku-band and C-band; (2) prevent harmful interference to Fixed Service (FS), Fixed Satellite Service (FSS) and other satellite services; (3) further the Commission's goals to manage spectrum efficiently; and (4) advance the provision of broadband telecommunications services that will benefit U.S. citizens on passenger, government (military and civilian), cargo and large recreational vessels.

Federal Communications Commission.
Marlene H. Dortch,
Secretary.

[FR Doc. 05-7953 Filed 4-20-05; 8:45 am]

BILLING CODE 6712-01-P